DEPARTMENT OF DEFENSE

Office of the Secretary

Renewal of Department of Defense Federal Advisory Committee; Defense Acquisition University Board of Visitors

AGENCY: Department of Defense (DoD).

ACTION: Renewal of Federal advisory committee.

SUMMARY: Under the provisions of Public Law 101-510, the Federal Advisory Committee Act of 1972, (5 U.S.C. Appendix, as amended), the Government in the Sunshine Act of 1976 (5 U.S.C. 552b, as amended), and 41 CFR 102-3.50(c), the Department of Defense gives notice that it is renewing the charter for the Defense Acquisition University Board of Visitors (hereafter referred to as the Board).

FOR FURTHER INFORMATION CONTACT: Jim Freeman, Deputy Committee Management Officer for the Department of Defense, 703-601-6128.

SUPPLEMENTARY INFORMATION: The Board is a non-discretionary federal advisory committee that provides advice and recommendations on the overall management and governance of the Defense Acquisition University.

The Board shall provide the Secretary of Defense, through the Secretary of the Under Secretary of Defense (Acquisition, Technology and Logistics) and the President of the Defense Acquisition University independent advice and recommendations on organization management, curricula, methods of instruction, facilities and other matters of interest to the Defense Acquisition University.

The Under Secretary of Defense (Acquisition, Technology and Logistics) or a designated representative may act upon the Board's advice and recommendations.

The Board shall be composed of not more than 16 members, who are eminent authorities in academia, business, and the defense industry. Board members shall be appointed by the Secretary of Defense, and their appointments will be renewed on an annual basis. Board members, who are not full-time or permanent part-time federal officers or employees, shall be appointed as experts and consultants under the authority of 5 U.S.C. 3109, and serve as special government employees. With the exception of travel and per diem for official travel, Board members shall serve without compensation.

The Under Secretary of Defense (Acquisition, Technology and Logistics) or a designated representative shall select the Board's Chairperson from the total Board membership, and this individual shall serve at the discretion of the Secretary of Defense, through the Under Secretary of Defense (Acquisition, Technology and Logistics).

In addition, the Under Secretary of Defense (Acquisition, Technology and Logistics) or a designated representative may invite other distinguished Government officers to serve as non-voting observers of the Board, and appoint, pursuant to 5 U.S.C. 3109, non-voting consultants, with special expertise, to assist the Board on an ad hoc basis.

With DoD approval, the Board is authorized to establish subcommittees, as necessary and consistent with its mission. These subcommittees or working groups shall operate under the provisions of the Federal Advisory Committee Act of 1972, the Government in the Sunshine Act of 1976 (5 U.S.C 552b, as amended), and other appropriate Federal statutes and regulations.

Such subcommittees or workgroups shall not work independently of the chartered Board, and shall report all their recommendations and advice to the Board for full deliberation and discussion. Subcommittees or workgroups have no authority to make decisions on behalf of the chartered Board nor can they report directly to the Department of Defense or any Federal officers or employees who are not Board members.

Subcommittee members, who are not Board members, shall be appointed in the same manner as the Board members.

The Board shall meet at the call of the Board's Designated Federal Officer, in consultation with the President of the Defense Acquisition University and the Board's Chairperson. The estimated number of Board meetings is three per year.

The Designated Federal Officer, pursuant to DoD policy, shall be a full-time or permanent part-time DoD employee, and shall be appointed in accordance with established DoD policies and procedures. In addition, the Designated Federal Officer is required to be in attendance at all meetings, however, in the absence of the Designated Federal Officer, the Alternate Designated Federal Officer shall attend the meeting.

Pursuant to 41 CFR 102-3.105(j) and 102-3.140, the public or interested organizations may submit written statements to the Defense Acquisition University Board of Visitors' mission and functions. Written statements may be submitted at any time or in response to the stated agenda of planned meeting of the Defense Acquisition University Board of Visitors.

All written statements shall be submitted to the Designated Federal Officer for the Defense Acquisition University Board of Visitors, and this individual will ensure that the written statements are provided to the membership for their consideration. Contact information for the Defense Acquisition University Board of Visitors Designated Federal Officer can be obtained from the GSA's FACA Database— https://www.fido.gov/facadatabase/public.asp.

The Designated Federal Officer, pursuant to 41 CFR 102-3.150, will announce planned meetings of the Defense Acquisition University Board of Visitors. The Designated Federal Officer, at that time, may provide additional guidance on the submission of written statements that are in response to the stated agenda for the planned meeting in question.

Dated: March 15, 2010.
Mitchell S. Bryman,
Alternate OSD Federal Register Liaison Officer, Department of Defense.

[FR Doc. 2010-5960 Filed 3-17-10; 8:45 am]

BILLING CODE 5001-06-P